DEPARTMENT OF HEALTH AND HUMAN SERVICES

Centers for Medicare & Medicaid Services

42 CFR Part 438

Managed Care

CFR Correction

In Title 42 of the Code of Federal Regulations, Parts 430 to 481, revised as of October 1, 2017, on page 295, in § 438.214, paragraph (c) [Reserved] is removed and “(2) [Reserved]” is added in its place.

[FR Doc. 2018-09060 Filed 4-26-18; 8:45 am]

BILLING CODE 1301-00-D